DEPARTMENT OF THE INTERIOR

National Park Service

[NPS-WASO-NAGPRA-23026; PPWOCRADN0-PCU00RP14.R50000]

Notice of Inventory Completion: Nebraska State Historical Society, Lincoln, NE

AGENCY: National Park Service, Interior.

ACTION: Notice.

SUMMARY: The Nebraska State Historical Society (NSHS) has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the NSHS. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the NSHS at the address in this notice by June 2, 2017.

ADDRESSES: Rob Bozell, Nebraska State Historical Society, P.O. Box 82554, Lincoln, NE 68501, telephone (402) 471-4789, email rob.bozell@nebraska.gov.

SUPPLEMENTARY INFORMATION: Notice is here given in accordance with the Native American Graves Protection and Repatriation Act (NAGPRA), 25 U.S.C. 3003, of the completion of an inventory of human remains and associated funerary objects under the control of the NSHS, Lincoln, NE. The human remains and associated funerary objects were removed from Custer and Franklin Counties, NE.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the NSHS professional staff in consultation with representatives of: The Arapaho Tribe of the Wind River Reservation, Wyoming; Iowa Tribe of Kansas and Nebraska; Kiowa Indian Tribe of Oklahoma; Northern Cheyenne Tribe of the Northern Cheyenne Indian Reservation, Montana; Pawnee Nation of Oklahoma; and Ponca Tribe of Nebraska.

History and Description of the Remains

On an unknown date, human remains representing, at minimum, one individual were removed from a ranch in rural Custer County, NE. On July 1, 2014, the human remains were donated to the NSHS by the private individual who had initially removed them. The human remains include the partial cranium and ten post-cranial bones of an individual of Native American ancestry. No known individual was identified. No associated funerary objects are present.

On October 28, 2014, human remains representing, at minimum, one individual were removed from a private yard in the City of Broken Bow in Custer County, NE. The human remains were given to the City of Broken Bow Police Department and subsequently donated to the NSHS. The human remains include the partial cranium of an individual of possible Native American ancestry. No known individual was identified. No associated funerary objects are present.

On October 1, 2014, human remains representing, at minimum, one individual were removed from an abandoned building in Custer County, NE. The human remains were given to the Custer County Sheriff's Office and subsequently donated to the NSHS. The human remains include the cranium of an individual of Native American ancestry and 13 post-cranial bones. No known individual was identified. The 13 associated funerary objects are: One metal button, one metal ring, one metal hook or flint steel, one animal bone, five flint flakes, one chalky concretion, two glass trade beads, and one mussel shell.

Between November 5 and 7, 2014, human remains representing, at minimum, one adult individual were removed from a steep slope in Franklin County, NE, by the NSHS. The human remains were discovered eroding from the slope by an archeological survey crew. The human remains include: Two femora (l/r), two tibiae (l/r), two fibulae (l/r), one pelvis (l), two humeri (l/r), one radius (l), one ulna (l), one 5th metacarpal (r), several fragments of vertebrae, and several fragments of unidentifiable long bones. The human remains were those of an individual of Native American ancestry. No known individuals were identified. No associated funerary objects are present.

Determinations Made by the Nebraska State Historical Society

Officials of the Nebraska State Historical Society have determined that:

• Pursuant to 25 U.S.C. 3001(9), the human remains described in this notice are Native American based on associated funerary objects and examination by a physical anthropologist of cranial, dental, and femoral features and measurements.

• Pursuant to 25 U.S.C. 3001(9), the human remains described in this notice represent the physical remains of four individuals of Native American ancestry.

• Pursuant to 25 U.S.C. 3001(3)(A), the 13 objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of the Pawnee Nation of Oklahoma.

• Pursuant to 43 CFR 10.11(c)(1), the disposition of the human remains and associated funerary objects may be to the Pawnee Nation of Oklahoma.

Additional Requestors and Disposition

Representatives of any Indian tribe or Native Hawaiian organization not identified in this notice that wish to request transfer of control of these human remains and associated funerary objects should submit a written request with information in support of the request to Rob Bozell, Nebraska State Historical Society, P.O. Box 82554, Lincoln, NE 68501, (402) 471-4789, email rob.bozell@nebraska.gov, by June 2, 2017. After that date, if no additional requestors have come forward, transfer of control of the human remains and associated funerary objects to the Pawnee Nation of Oklahoma may proceed.

The Nebraska State Historical Society is responsible for notifying the Arapaho Tribe of the Wind River Reservation, Wyoming; Iowa Tribe of Kansas and Nebraska; Kiowa Indian Tribe of Oklahoma; Northern Cheyenne Tribe of the Northern Cheyenne Indian Reservation, Montana; Pawnee Nation of Oklahoma; and Ponca Tribe of Nebraska that this notice has been published.

Dated: March 3, 2017.
Melanie O'Brien,
Manager, National NAGPRA Program.

[FR Doc. 2017-08861 Filed 5-2-17; 8:45 am]

BILLING CODE 4312-52-P